DEPARTMENT OF ENERGY

10 CFR Part 431

[Docket No. EERE-2008-BT-TP-0014]

RIN 1904-AB85

Energy Conservation Program: Public Meeting and Availability of the Notice of Proposed Rulemaking for Walk-In Coolers and Walk-In Freezers; Date Change

AGENCY: Office of Energy Efficiency and Renewable Energy, Department of Energy.

ACTION: Proposed rulemaking; date change.

SUMMARY: The Department of Energy published a proposed rule in the Federal Register on January 4, 2010, concerning a public meeting and availability of the notice of proposed rulemaking (NOPR) regarding test procedures for walk-in coolers and walk-in freezers. This document changes the date of the public meeting, the date of the deadline for requesting to speak at the public meeting, and the date of the deadline for submitting written comments on the framework document because the scheduled public meeting of February 11, 2010, was cancelled due to inclement weather, which forced a Federal Government shutdown. The public meeting will now be held on Wednesday, March 24, 2010, beginning at 9 a.m. The close of the comment period has been changed to March 31, 2010 in order to accommodate comments received at the public meeting and comments that may be submitted based on issues raised at the public meeting.

FOR FURTHER INFORMATION CONTACT: Mr. Charles Llenza, U.S. Department of Energy, Building Technologies Program, EE-2J, 1000 Independence Avenue, SW., Washington, DC 20585-0121, (202) 586-2192, Charles.Llenza@ee.doe.gov or Mr. Michael Kido, Esq., U.S. Department of Energy, Office of General Counsel, GC-72, 1000 Independence Avenue, SW., Washington, DC 20585- 0121, (202) 586-8145, Michael.Kido@hq.doe.gov.

DATES: DOE will hold a public meeting in Washington, DC on Wednesday, March 24, 2010, beginning at 9 a.m. DOE must receive requests to speak at the meeting before 4 p.m., Wednesday, March 10, 2010. DOE must receive a signed original and an electronic copy of statements to be given at the public meeting before 4 p.m., Wednesday, March 17, 2010. Written comments on the NOPR are welcome, especially following the public meeting, and should be submitted by Wednesday, March 31, 2010.

ADDRESSES: The public meeting will be held at the U.S. Department of Energy, Forrestal Building, Room 8E-089, 1000 Independence Avenue, SW., Washington, DC 20585-0121. To attend the public meeting, please notify Ms. Brenda Edwards at (202) 586-2945. Please note that foreign nationals participating in the public meeting are subject to advance security screening procedures, requiring a 30-day advance notice. If you are a foreign national and wish to participate in the public meeting, please inform DOE as soon as possible by contacting Ms. Brenda Edwards at (202) 586-2945 so that the necessary procedures can be completed.

SUPPLEMENTARY INFORMATION: As noted above, DOE will hold a public meeting on Wednesday, March 24, 2010 in Washington, DC. The purpose of the meeting is to discuss the NOPR regarding test procedures for walk-in coolers and walk-in freezers. For additional information regarding the NOPR and the meeting, including detailed instructions for the submission of comments and access to the docket to read background documents or comments received, please refer to the January 4, 2010 proposed rule. 75 FR 186. The Department welcomes all interested parties, regardless of whether they participate in the public meeting, to submit written comments regarding matters addressed in the NOPR, as well as any other related issues, by March 31, 2010.

Issued in Washington, DC, on February 22, 2010.
Cathy Zoi,
Assistant Secretary, Energy Efficiency and Renewable Energy.

[FR Doc. 2010-4124 Filed 2-26-10; 8:45 am]

BILLING CODE 6450-01-P